DEPARTMENT OF TRANSPORTATION

Federal Aviation Administration

14 CFR Part 39

[Docket No. FAA-2012-0632; Directorate Identifier 2011-SW-044-AD; Amendment 39-17305; AD 2012-26-10]

RIN 2120-AA64

Airworthiness Directives; Eurocopter France Helicopters

AGENCY: Federal Aviation Administration (FAA), DOT.

ACTION: Final rule.

SUMMARY: We are adopting a new airworthiness directive (AD) for all Eurocopter France (Eurocopter) Model SA-365N, SA-365N1, AS-365N2, AS 365 N3, EC 155B, EC155B1, SA-365C, SA-365C1, SA-365C2, and SA-366G1 helicopters. This AD requires inspecting portions of the main gearbox (MGB) for the presence of sealing compound and corrosion. This AD was prompted by reports of corrosion on the main MGB casing lower area between the two servo-control anchoring fitting attachment ribs. An investigation determined that the corrosion was associated with sealing compound on the lower part of the fitting/casing attachment. The actions in this AD are intended to detect corrosion on the MGB casing, which could lead to a crack, failure of the MGB, and subsequent loss of control of the helicopter.

DATES: This AD is effective February 13, 2013.

The Director of the Federal Register approved the incorporation by reference of certain documents listed in this AD as of February 13, 2013.

ADDRESSES: For service information identified in this AD, contact American Eurocopter Corporation, 2701 Forum Drive, Grand Prairie, Texas 75053-4005, telephone (800) 232-0323, fax (972) 641-3710, or at http://www.eurocopter.com. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Rao Edupuganti, Aviation Safety Engineer, Regulations and Policy Group, Rotorcraft Directorate, FAA, 2601 Meacham Blvd., Fort Worth, Texas 76137; telephone (817) 222-4389; email: rao.edupaganti@faa.gov.

SUPPLEMENTARY INFORMATION:

Discussion

On June 18, 2012, at 77 FR 36220, the Federal Register published our notice of proposed rulemaking (NPRM), which proposed to amend 14 CFR part 39 to include an AD that would apply to Eurocopter Model SA-365N, SA-365N1, AS-365N2, AS 365 N3, EC 155B, EC155B1, SA-366G1, SA-365C, SA-365C1, and SA-365C2 helicopters, with an MGB installed. That NPRM proposed to require inspecting the lower parts of the MGB casing anchoring fittings for sealing compound, and if there is sealing compound on the lower parts of the anchoring fittings, removing the sealing compound and inspecting the anchoring fittings for corrosion. If there is corrosion, the NPRM proposed repairing the affected area. If there is no corrosion, the NPRM proposed applying touch up protective treatment and renewing any damaged sealing compound bead in the lower part of the anchoring fitting.

The proposed requirements were intended to detect corrosion on the MGB casing, which could lead to a crack, failure of the MGB, and subsequent loss of control of the helicopter.

The European Aviation Safety Agency (EASA), which is the Technical Agent for the Member States of the European Union, has issued AD No.: 2011-0127, dated July 1, 2011 (AD No. 2011-0127), which supersedes Directorate General for Civil Aviation (DGAC France) AD F-2008-04, dated June 4, 2008, for the Eurocopter Model EC 155 B, EC 155 B1, SA 365 N, SA 365 N1, AS 365 N2, AS 365 N3, SA 366 G1, SA 365 C, SA 365 C1, SA 365 C2, and SA 365 C3 helicopters with a MGB, all part numbers, that was delivered before December 5, 2007, installed on helicopters delivered before December 5, 2007, or overhauled or repaired before September 30, 2008. EASA states that in 2008, it received two reports of atmospheric corrosion on the MGB casing lower area of two helicopters between the two servo-control anchoring fitting attachment ribs. The investigation showed that the corrosion occurred in this area due to the presence of “PR sealing compound” on the lower part of the fitting/casing attachment. The “PR sealing compound” may have been applied incorrectly on some helicopters due to a misinterpretation of the Eurocopter documentation during installation. EASA states that this condition, if not corrected, could lead to “crack initiation and crack growth in the affected area of the casing,” which could cause this area to fail and result in loss of control of the helicopter.

Comments

We gave the public the opportunity to participate in developing this AD, but we did not receive any comments on the NPRM (77 FR 36220, June 18, 2012).

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs and that air safety and the public interest require adopting the AD requirements as proposed, except we have removed the words “with a main gearbox installed” from the applicability paragraph because that language is unnecessary. This minor change is consistent with the intent of the proposals in the NPRM and will not increase the economic burden on any operator nor increase the scope of the AD.

Differences Between This AD and the EASA AD

The EASA AD requires inspecting the anchoring fittings for “PR sealing compound” within 15 flight hours, while this AD requires inspecting within 30 hours TIS. The EASA AD applies to the Model SA-365C3, and this AD does not include this model because it does not have an FAA-issued type certificate. This AD does not allow the compliance times provided in Appendix 1 of the EASA AD, since it is desirable to accomplish any required repairs before further flight.

Related Service Information

Eurocopter has issued one Emergency Alert Service Bulletin (EASB), Revision 0, dated May 7, 2008, with five different numbers. EASB No. 63.00.17 is for the Model AS 365-series helicopters; EASB No. 63.00.12 is for the military Model AS 565-series helicopters, which are not FAA type certificated; EASB No. 63A011 is for the Model EC 155-series helicopters; EASB No. 65.03 is for the Model SA 366-series helicopters; and EASB No. 65.47 is for the Model SA 365-series helicopters and the non-FAA type certificated Model SA 360-series helicopters. The EASB specifies inspecting for “PR sealing compound” on the lower parts of the MGB anchoring fittings, removing any “PR sealing compound,” and repairing any corrosion. EASA classified this EASB as mandatory and issued AD No. 2011-0127 to ensure the continued airworthiness of these helicopters.

Costs of Compliance

We estimate that this AD will affect 31 helicopters of U.S. Registry. We estimate that operators may incur the following costs in order to comply with this AD. Inspecting the anchor fittings for sealing compound and corrosion will require about 0.5 work hour at an average labor rate of $85 per hour, for a cost per helicopter of about $43 and a cost to the entire U.S. fleet of $1,318. Removing any sealing compound and repairing any corrosion damage will require about 8 work hours at an average labor rate of $85 per hour, for a cost per helicopter of $680.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-26-10 Eurocopter France Helicopters: Amendment 39-17305; Docket No. FAA-2012-0632; Directorate Identifier 2011-SW-044-AD.

(a) Applicability

This AD applies to Eurocopter France (Eurocopter) Model SA-365N, SA-365N1, AS-365N2, AS 365 N3, EC 155B, EC155B1, SA-366G1, SA-365C, SA-365C1, and SA-365C2 helicopters, certificated in any category.

(b) Unsafe Condition

This AD defines the unsafe condition as corrosion on the main gearbox (MGB) casing lower area between the servo-control anchoring ribs, caused by sealing compound on the lower part of the fitting/casing attachment. This condition could result in a crack, failure of the MGB, and subsequent loss of control of the helicopter.

(c) Effective Date

This AD becomes effective February 13, 2013.

(d) Compliance

You are responsible for performing each action required by this AD within the specified compliance time unless it has already been accomplished prior to that time.

(e) Required Actions

(1) Within 30 hours time-in-service, inspect the lower parts of the MGB servo-control anchoring fittings (anchor fittings) for sealing compound, referring to Figure 1 of Eurocopter Emergency Alert Service Bulletin No. 63.00.17 (for Models SA-365N, SA-365N1, AS-365N2 and AS 365 N3); No. 63A011 (for Models EC 155B and EC155B1); No. 65.03 (for Model SA-366G1); and No. 65.47 (for Models SA-365C, SA-365C1, and SA-365C2), Revision 0, dated May 7, 2008 (EASB).

Note 1 to paragraph (e)(1): The Eurocopter EASB is one document with multiple EASB numbers, each applicable to different base model Eurocopter helicopters.

(2) If there is sealing compound on the lower part of an MGB anchor fitting, remove the sealing compound and inspect for corrosion in the lower area of the MGB casing.

(i) If there is corrosion, before further flight, repair the corrosion area.

(ii) If there is no corrosion, apply touch up protective treatment, if required, and renew the bead of any damaged sealing compound in the upper part of the anchor fitting.

(f) Alternative Methods of Compliance (AMOCs)

(1) The Manager, Safety Management Group, FAA, may approve AMOCs for this AD. Send your proposal to: Rao Edupuganti, Aviation Safety Engineer, Regulations and Policy Group, Rotorcraft Directorate, FAA, 2601 Meacham Blvd., Fort Worth, Texas 76137; telephone (817) 222-4389; email: rao.edupaganti@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) Eurocopter Repair Sheet 365-63-36-08, dated April 4, 2008, and Standard Practices Manual (MTC) Work Cards 20.04.04, 20.04.05, and 20.05.01, which are not incorporated by reference, contain additional information regarding the subject of this AD and in particular regarding the procedures for corrosion repair, protective treatment touch-up, and renewing the damaged sealing bead. For service information identified in this AD, contact American Eurocopter Corporation, 2701 Forum Drive, Grand Prairie, Texas 75053-4005, telephone (800) 232-0323, fax (972) 641-3710, or at http://www.eurocopter.com. You may review a copy of the service information at the FAA, Office of the Regional Counsel, Southwest Region, 2601 Meacham Blvd., Room 663, Fort Worth, Texas 76137.

(2) The subject of this AD is addressed in European Aviation Safety Agency AD No. 2011-0127, dated July 1, 2011.

(h) Subject

Joint Aircraft Service Component (JASC) Code: 6320: Main Rotor Gearbox.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter Emergency Alert Service Bulletin No. 63.00.17, Revision 0, dated May 7, 2008.

(ii) Eurocopter Emergency Alert Service Bulletin No. 63A011, Revision 0, dated May 7, 2008.

(iii) Eurocopter Emergency Alert Service Bulletin No. 65.03, Revision 0, dated May 7, 2008.

(iv) Eurocopter Emergency Alert Service Bulletin No. 65.47, Revision 0, dated May 7, 2008.

Note 2 to paragraph (i)(2): Eurocopter Emergency Alert Service Bulletin (ASB) Nos. 63.00.17, 63A011, 65.03, and 65.47, all Revision 0, and all dated May 7, 2008 are co-published as one document along with Eurocopter Emergency ASB No. 63.00.12, Revision 0, dated May 7, 2008, which is not incorporated by reference in this AD.

(3) For Eurocopter service information identified in this AD, contact American Eurocopter Corporation, 2701 Forum Drive, Grand Prairie, Texas 75053-4005, telephone (800) 232-0323, fax (972) 641-3710, or at http://www.eurocopter.com.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on December 20, 2012.
Kim Smith,
Directorate Manager, Rotorcraft Directorate, Aircraft Certification Service.

[FR Doc. 2012-31682 Filed 1-8-13; 8:45 am]

BILLING CODE 4910-13-P